NATIONAL SCIENCE FOUNDATION

Sunshine Act Meetings

The National Science Board's Awards and Facilities Committee hereby gives notice of the scheduling of a teleconference for the transaction of National Science Board business pursuant to the National Science Foundation Act and the Government in the Sunshine Act.

TIME AND DATE: Wednesday, November 30, 2022, from 1:00-3:40 p.m. EST.

PLACE: This meeting will be held at NSF headquarters, 2145 Eisenhower Ave., Alexandria, VA 22314, and by videoconference.

STATUS: Closed.

MATTERS TO BE CONSIDERED: The agenda of the teleconference is: Committee Chair's Opening Remarks; Context item: Authorization of Infrastructure Recapitalization Portfolio; Context item: Authorization for NSF to issue the Request for Proposal for the Recompetition of the Antarctic Support Contract; Context Item: Mid-scale Research Infrastructure Tract 2 Awards Portfolio; and Information item: Annual Report of the Chief Officer for Research Facilities.

CONTACT PERSON FOR MORE INFORMATION: Point of contact for this meeting is: Michelle McCrackin, mmccrack@nsf.gov, (703) 292-7000. Meeting information and updates may be found at www.nsf.gov/nsb.

Christopher Blair,
Executive Assistant to the National Science Board Office.

[FR Doc. 2022-26033 Filed 11-23-22; 4:15 pm]

BILLING CODE 7555-01-P